DEPARTMENT OF THE INTERIOR

Fish and Wildlife Service

50 CFR Part 17

[Docket No. FWS-R3-ES-2015-0112; 4500030113]

RIN 1018-BB66

Endangered and Threatened Wildlife and Plants; Endangered Species Status for Rusty Patched Bumble Bee

AGENCY: Fish and Wildlife Service, Interior.

ACTION: Final rule; delay of effective date.

SUMMARY: In accordance with a January 20, 2017, memo from the White House, we, the U.S. Fish and Wildlife Service, are delaying the effective date of a rule we published on January 11, 2017.

DATES: The effective date of the rule that published on January 11, 2017, at 82 FR 3186, is delayed from February 10, 2017, to March 21, 2017.

FOR FURTHER INFORMATION CONTACT: Peter Fasbender, Field Supervisor, U.S. Fish and Wildlife Service, Twin Cities Ecological Services Field Office, 4101 American Blvd. E., Bloomington, MN 55425; by telephone 952-252-0092, extension 210. Persons who use a telecommunications device for the deaf (TDD) may call the Federal Relay Service at 800-877-8339.

SUPPLEMENTARY INFORMATION: On January 11, 2017, we published a rule to list the rusty patched bumble bee (Bombus affinis), a species that occurs in the eastern and Midwestern United States and Ontario, Canada, as an endangered species under the Endangered Species Act of 1973, as amended (16 U.S.C. 1531 et seq.). The rule was to be effective on February 10, 2017.

On January 20, 2017, the White House issued a memo instructing Federal agencies to temporarily postpone the effective date for 60 days after January 20, 2017, of any regulations that have published in the Federal Register but not yet taken effect, for the purpose of “reviewing questions of fact, law, and policy they raise.” We are, therefore, delaying the effective date of our rule published on January 11, 2017, at 82 FR 3186 (see DATES, above).

Administrative Procedure Act

To the extent that 5 U.S.C. 553 applies to this action, it is exempt from notice and comment because it constitutes a rule of procedure under 5 U.S.C. 553(b)(A). Alternatively, our implementation of this action without opportunity for public comment, effective immediately upon publication in the Federal Register, is based on the good cause exceptions in 5 U.S.C. 553(b)(B) and 553(d)(3). Pursuant to 5 U.S.C. 553(b)(B), we have determined that good cause exists to forgo the requirement to provide prior notice and an opportunity for public comment thereon for this rule as such procedures would be impracticable, unnecessary, and contrary to the public interest. We are temporarily postponing for 60 days after January 20, 2017, the effective date of this regulation pursuant to the previously noted memorandum from the White House. As a result, seeking public comment on this delay is unnecessary and contrary to the public interest. For these same reasons, we find good cause to waive the 30-day delay in effective date provided for in 5 U.S.C. 553(d).

Authority: 16 U.S.C. 1361-1407; 1531-1544; and 4201-4245, unless otherwise noted.

Dated: February 7, 2017.
James W. Kurth,
Acting Director, U.S. Fish and Wildlife Service.

[FR Doc. 2017-02865 Filed 2-9-17; 8:45 am]

BILLING CODE 4333-15-P